DEPARTMENT OF JUSTICE

Notice of Lodging of Amendment to Consent Decree Pursuant to the Resource Conservation and Recovery Act (RCRA)

In accordance with Departmental policy, 28 CFR 50.7, notice is hereby given that a proposed Amendment to Consent Decree entered on January 17, 2001 in United States and State of Mississippi v. Morton International, Inc., Civil Action No. 1:00-CV-501 BrR, was lodged with the United States District Court for the Southern District of Mississippi, Biloxi Division on June 13, 2003.

The Consent Decree involved the settlement of claims brought by the United States and State pursuant the Solid Waste Disposal Act, as amended by the Resource Conservation and Recovery Act (RCRA), 42 U.S.C. 6901 et seq., as amended by the Hazardous and Solid Waste Amendments of 1984 (HSWA); the Safe Drinking Water Act (SDWA), 42 U.S.C. 300f et seq.; the Clean Water Act (CWA), 33 U.S.C. 1251 et seq.; the Clean Air Act (CAA), 42 U.S.C. 7401 et seq.; the Emergency Planning and Community Right-To-Know Act (EPCRA), 42 U.S.C. 11001 et seq.; and the Comprehensive Environmental Response, Compensation, and Liability Act (CERCLA), 42 U.S.C. 9601 et seq. The complaint also contained claims brought under the Mississippi Solid Waste Disposal Law of 1974, Miss. Code Ann. 17-17-1 et seq., the Mississippi Air and Water Pollution Control Law, Miss. Code Ann. 49-17-1- et seq., and the organic act of the Commission and of the Mississippi Department of Environmental Quality (MDEQ), Miss. Code Ann. 49-2-1 et seq. and sought recovery of civil penalties and injunctive relief. The United States and State sought the assessment of civil penalties and injunctive relief. The proposed and agreed upon Amendment would modify the Consent Decree by substituting a drinking water supplemental environmental project (SEP) for a SEP which was no longer viable due to the closing of the facility in Moss Point, Mississippi.

More specifically, the substitute SEP is a reverse osmosis treatment process for drinking water systems in Moss Point, Mississippi that is designed to improve the taste, color and odor of drinking water. The substitute SEP will provide substantial benefits to the community. Given the credit earned for the no longer viable SEP, Morton is obligated to spend $9,434,537.00. If the reverse osmosis system costs less than $9,434,537.00, Morton will pay the difference to the United States and State, unless the parties agree on an additional SEP to be funded with all or a portion of the balance.

The Department of Justice will receive, for a period of thirty (30) days from the date of this publication, comments relating to the proposed Amendment to Consent Decree. Comments should be addressed to the Assistant Attorney General, Environment and Natural Resources Division, P.O. Box 7611, U.S. Department of Justice, Washington, DC 20044-7611. Each communication should refer on its face to United States and State of Mississippi versus Morton International, Inc., DOJ No. 90-7-1-06413.

The proposed Amendment to Consent Decree may be examined at the Office of the United States Attorney, Southern District of Mississippi, 808 Vieux Marche, 2nd Floor, Biloxi, Mississippi 39530, and at the U.S. Environmental Protection Agency, Region 4 Office, 61 Forsyth Street, Atlanta, Georgia 30303. During the public comment period, the proposed Amendment may also be examined on the following Department of Justice Web site, http:/www.usdoj.gov/enrd/open.html.

A copy of the proposed Amendment to Consent Decree may be obtained by (1) mail from the Consent Decree Library, P.O. Box 7611, U.S. Department of Justice, Washington, DC 20044-7611; or by (2) faxing or emailing the request to Tonia Fleetwood (tonia.fleetwood@usdoj.gov), U.S. Department of Justice, fax number (202) 616-6584; phone confirmation (202) 514-1547. In requesting a copy, please forward the request and a check in the amount of $6.25 (25 cents per page reproduction cost), made payable to the U.S. Treasury.

Bruce S. Gelber,
Section Chief, Environmental Enforcement Section, Environment and Natural Resources Division.

[FR Doc. 03-16775 Filed 7-1-03; 8:45 am]

BILLING CODE 4416-IS-M